DEPARTMENT OF THE INTERIOR

National Park Service

[NPS-WASO-NAGPRA-NPS0028649; PPWOCRADN0-PCU00RP14.R50000]

Notice of Intent To Repatriate Cultural Items: The Field Museum, Chicago, IL

AGENCY: National Park Service, Interior.

ACTION: Notice.

SUMMARY: The Field Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Field Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum at the address in this notice by October 3, 2019.

ADDRESSES: Helen Robbins, The Field Museum of Natural History, 1400 Lakeshore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum, Chicago, IL that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In December 1899, two unassociated funerary objects were removed from graves at the Chevelon site in Navajo County, AZ. The items were removed by J.A. Burt, an employee of the Field Museum, in the winter of 1899-1900 as part of an excavation sponsored by the Museum. The two unassociated funerary objects are one painted, corrugated ceramic jar and one painted ceramic bowl.

Chevelon was occupied from around A.D. 1250 until A.D. 1450. Based on archeological research, scholarly research, oral histories, consultation, and museum records, Chevelon is affiliated with the Hopi Tribe of Arizona and the Zuni Tribe of the Zuni Reservation, New Mexico. The items described above were determined to be unassociated funerary objects based on J.A. Burt's own notes, which indicate the grave from which he removed each item.

Determinations Made by the Field Museum

Officials of the Field Museum have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona and the Zuni Tribe of the Zuni Reservation, New Mexico.

Additional Requestors and Disposition

Lineal descendants or representatives of any Indian Tribe or Native Hawaiian organization not identified in this notice that wish to claim these cultural items should submit a written request with information in support of the claim to Helen Robbins, The Field Museum of Natural History, 1400 Lakeshore Drive, Chicago, IL 60605, telephone (312) 665-7317, email hrobbins@fieldmuseum.org, by October 3, 2019. After that date, if no additional claimants have come forward, transfer of control of the unassociated funerary objects to the Hopi Tribe of Arizona and the Zuni Tribe of the Zuni Reservation, New Mexico may proceed.

The Field Museum is responsible for notifying the Hopi Tribe of Arizona and the Zuni Tribe of the Zuni Reservation, New Mexico that this notice has been published.

Dated: August 6, 2019.
Melanie O'Brien,
Manager, National NAGPRA Program.

[FR Doc. 2019-18864 Filed 8-30-19; 8:45 am]

BILLING CODE 4312-52-P